DEPARTMENT OF ENERGY

Federal Energy Regulatory Commission

[P-2299-057]

Modesto Irrigation District; Turlock Irrigation District; Notice To Hold a Public Meeting To Discuss the 10-Year Fisheries Summary Report for the Don Pedro Project

June 23, 2006.

The Modesto Irrigation District and the Turlock Irrigation District (licensees) filed a Fisheries Summary Report on March 25, 2005, pursuant to Article 58 of the license, as amended ¹. The Commission noticed the filing on June 24, 2005, and solicited comments, motions to intervene, and protests. Comments were due by July 25, 2005, and replies to comments were due August 25, 2005. Requests for additional time to comment were filed and were granted by order issued September 20, 2005, with revised filing dates of November 22, 2005, for comments and December 22, 2005, for responses to comments. Comments, responses to comments, and motions to intervene were received.

¹ See 76 FERC ¶ 61, 117 (1996).

The Commission staff will conduct a public meeting based on the filings of the licensees' report and comments received to date. The meeting will allow Commission staff to discuss: (1) Information filed with the Commission by the various parties concerning the 10-year summary report on the licensees' chinook salmon studies, monitoring, and non-flow mitigation efforts on the Tuolumne River since 1995; (2) information on Central Valley steelhead to determine what effects, if any, may be occurring; and (3) whether to require further monitoring studies and changes in project structures and operations to protect fishery resources in the Tuolumne River.

The meeting will focus on the above topics to clarify information currently in the project file. Commission staff will be prepared to lead a discussion using information that has been filed by the various parties. Commission staff asks all parties that participate to be prepared to support their oral statements with documented information.

The meeting will be held on Tuesday, July 25, 2006, from 9 a.m. to 5 p.m. (PST) at the John E. Moss Federal Building and Courthouse, 650 Capitol Mall, Stanford Room, 1st floor, Sacramento, California 95814. The licensees, resource agency personnel, and other persons interested in these issues are invited to participate. The meeting will be recorded by a stenographer and become part of the formal record of the Commission proceeding on the project.

Special security precautions are employed at this Federal building. Visitors must go through full security screening and are not permitted to bring in cell phones or cameras with digital photo capability. Laptops and PDAs must be booted up at the security entrance. Any questions about this notice should be directed to Philip Scordelis at the Federal Energy Regulatory Commission, (415) 369-3335, or by e-mail at philip.scordelis@ferc.gov.

Magalie R. Salas,
Secretary.

[FR Doc. E6-10300 Filed 6-29-06; 8:45 am]

BILLING CODE 6717-01-P